ENVIRONMENTAL PROTECTION AGENCY

[ER-FRL-9010-5]

Environmental Impacts Statements;

Notice of Availability

Responsible Agency: Office of Federal Activities, General Information (202) 564-7146 or http://www.epa.gov/compliance/nepa/.

Weekly receipt of Environmental Impact Statements Filed 07/29/2013 Through 08/02/2013 Pursuant to 40 CFR 1506.9.

Notice

Section 309(a) of the Clean Air Act requires that EPA make public its comments on EISs issued by other Federal agencies. EPA's comment letters on EISs are available at: http://www.epa.gov/compliance/nepa/eisdata.html.

EIS No. 20130231, Final EIS, USFS, OR, West Bend Vegetation Management Project, Review Period Ends: 09/19/2013, Contact: Beth Peer 541-383-4769

EIS No. 20130232, Final EIS, USN, MD, Outdoor Research, Development, Test and Evaluation Activities at NSWC, Review Period Ends: 09/09/2013, Contact: Stacia Courtney 540-653-8154

EIS No. 20130233, Draft Supplement, USFS, ID, Salmon-Challis National Forest Travel Planning and OHV Designation Project, Comment Period Ends: 10/08/2013, Contact: Karen Gallogly 208-756-5103

EIS No. 20130234, Draft EIS, BLM, NM, Ochoa Mine Project, Comment Period Ends: 09/23/2013, Contact: Shiva Achet 575-234-5924

EIS No. 20130235, Draft EIS, VCT, NM, Valles Caldera National Preserve—Landscape Restoration and Stewardship Plan, Comment Period Ends: 09/26/2013, Contact: Marie E. Rodriguez 505-660-3333

Amended Notices

EIS No. 20130148, Draft Supplement, USACE, FL, Jacksonville Harbor Navigation, Comment Period Ends: 09/30/2013, Contact: Paul Stodola 904-232-3271

Revision to FR Notice Published 07/12/2013; Extending Comment Period from 07/31/2013 to 09/30/2013.

Dated: August 6, 2013.
Cliff Rader,
Director, NEPA Compliance Division, Office of Federal Activities.

[FR Doc. 2013-19361 Filed 8-8-13; 8:45 am]

BILLING CODE 6560-50-P